DEPARTMENT OF TRANSPORTATION

Federal Aviation Administration

Public Notice for Waiver of Aeronautical Land-Use Assurance Dayton-Wright Brothers Airport; Dayton, OH

AGENCY: Federal Aviation Administration, DOT.

ACTION: Notice of intent of waiver with respect to land.

SUMMARY: The Federal Aviation Administration (FAA) is considering a proposal to change a portion of the airport from aeronautical use to non-aeronautical use and to authorize the release of 10.829 acres of airport property for permanent public roadway use. The land consists of portions of 4 original airport acquired parcels. These parcels were acquired under grants 5-39-0030-01, 5-39-0030-02, 5-39-0030-03, 5-39-0030-04, 5-39-0030-05, and 3-39-0030-01. There are no impacts to the airport by allowing the City of Dayton to sell the property. The land is not needed for aeronautical use. Approval does not constitute a commitment by the FAA to financially assist in the sale of the subject airport property nor a determination of eligibility for grant-in-aid funding from the FAA. The disposition of proceeds from the sale of the airport property will be in accordance with FAA's Policy and Procedures Concerning the Use of Airport Revenue, published in the Federal Register on February 16, 1999. In accordance with section 47107(h) of title 49, United States Code, this notice is required to be published in the Federal Register 30 days before modifying the land-use assurance that requires the property to be used for an aeronautical purpose.

DATES: Comments must be received on or before May 3, 2010.

ADDRESSES: Written comments on the Sponsor's request must be delivered or mailed to: Irene R. Porter, Program Manager, Detroit Airports District Office, 11677 South Wayne Road, Suite 107, Romulus, MI 48174.

FOR FURTHER INFORMATION CONTACT: Irene R. Porter, Program Manager, Federal Aviation Administration, Great Lakes Region, Detroit Airports District Office, DET ADO-607, 11677 South Wayne Road, Suite 107, Romulus, Michigan 48174. Telephone Number (734-229-2915)/FAX Number (734-229-2950).

Documents reflecting this FAA action may be reviewed at this same location or at Dayton Wright Brothers Airport, Dayton, Ohio.

SUPPLEMENTARY INFORMATION:

Parcel 6-SH1

Situated in the Township of Miami, County of Montgomery, State of Ohio and being a part of a 57.720 acre tract of land as conveyed to The City of Dayton, Ohio, and described in Deed M.F. 74-023D06 and lying in Section 10, Township 2, Range 5, M.Rs., and being a parcel of land lying on the Right side of the Centerline of Construction of Austin Boulevard, as shown on Plat Book 212, Pages 34 and 34A as surveyed by Burgess & Niple for the Montgomery County Engineer's Office and being more particularly described as follows:

Beginning for reference at a brass disk found in a highway monument box stamped “Montgomery County Engineer's Dayton”, located in the existing centerline of Right-of-Way of Austin Pike at the southeast corner of the Villages of Miami-South, Section Seven, as shown in Plat Book 192, Page 33. Said disk being located 15.31 left of Austin Boulevard Centerline of Construction Station 225+55.84;

Thence the following seven (7) courses and distances along said existing centerline of Right-of-Way of Austin Pike:

1. S 83°01′58″ W, a distance of 670.76 feet and along the south line of said Villages of Miami-South, Section Seven, to an angle point being located 15.93 feet left of Austin Boulevard Centerline of Construction Station 218+85.08;

2. S 83°46′58″ W, a distance of 160.64 feet, and along said south line of the Villages of Miami-South, Section Seven, to an angle point at the common corner of said Villages of Miami-South, Section Seven, and the 68.065 acre tract of land conveyed to the Board of Trustees Miami Township, Montgomery County, Ohio in Deed M.F. 95-248D05. Said point being located 18.18 feet left of Austin Boulevard Centerline of Construction Station 217+24.46;

3. S 83°46′26″ W, a distance of 373.41 feet, and along the south line of said 68.065 acre tract, to an angle point being located 21.45 feet left of Austin Boulevard Centerline of Construction Station 213+50.09;

4. S 83°49′00″ W, a distance of 722.77 feet, and along said south line of the 68.065 acre tract, to a point at the common corner of said 68.065 acre tract and the 23.744 acre tract of land conveyed to The City of Dayton, Ohio in Deed M.F. 83-011B03. Said point being located 76.02 feet right of Austin Boulevard Centerline of Construction Station 206+30.88;

5. Continue S 83°49′00″ W, a distance of 22.67 feet, and along the south line of said 23.744 acre tract, to a point at the northeast corner of the aforesaid Grantor's 57.720 acre tract. Said point being located 78.95 feet right of Austin Boulevard Centerline of Construction Station 206+08.10;

6. S 89°17′39″ W, a distance of 673.03 feet, and along the south line of said 23.744 acre tract and north line said Grantor's 57.720 acre tract, to a railroad spike found at the common corner of said 23.744 acre tract and the aforesaid 68.065 (Total) acre tract, said point being located 60.27 feet right of Austin Boulevard Centerline of Construction Station 199+26.65;

7. S 89°16′51″ W, a distance of 141.77 feet, and along the south line of said 68.065 (Total) acre tract and north line said Grantor's 57.720 acre tract, to a point at the northeast corner of Parcel 126-WDV of proposed Right-of-Way to be acquired by ODOT Project MOT-750.75, Phase Three, PID 77246, as shown upon the Right-of-Way plans thereof. Said point being located 46.21 feet right of Austin Boulevard Centerline of Construction Station 197+84.25;

Thence the following three (3) courses and distances along said Parcel 126-WDV:

1. S 00°43′10″ E, a distance of 24.12 feet, to a point being located 70.18 feet right of Austin Boulevard Centerline of Construction Station 197+81.53;

2. S 55°11′45″ W, a distance of 72.45 feet, to a point being located 103.43 feet right of Austin Boulevard Centerline of Construction Station 197+16.18;

3. S 84°57′40″ W, a distance of 273.40 feet, to an iron pin set. Said iron pin being the point of true beginning and located 83.63 feet right of Austin Boulevard Centerline of Construction Station 194+38.94;

Thence S 80°59′47″ W, a distance of 411.13 feet along the proposed south right-of-way across aforesaid Grantor's 57.720 acre tract, to an iron pin set in the aforesaid south line of Parcel 126-WDV. Said iron pin being located 95.76 feet right of Austin Boulevard Centerline of Construction Station 190+41.43;

Thence the following two (2) courses and distances along said south lines of Parcel 126-WDV:

1. N 76°48′01″ E, a distance of 200.25 feet, to a point. Said point being located 66.00 feet right of Austin Boulevard Centerline of Construction Station 192+31.49;

2. N 84°57′40″ E, a distance of 211.92 feet, to the point of true beginning.

The above described area contains a total of 0.069 acres, within the Montgomery County Auditor's Parcel Number K45 02602 0015, which includes 0.000 acres in the present road occupied.

Parcel 6-SH2

Situated in the Township of Miami, County of Montgomery, State of Ohio and being a part of a 57.720 acre tract of land as conveyed to The City of Dayton, Ohio, and described in Deed M.F. 74-023D06 and lying in Section 10, Township 2, Range 5, M.Rs., and being a parcel of land lying on the Right side of the Centerline of Construction, Austin Boulevard, as shown on Plat Book 212, Pages 34 and 34A as surveyed by Burgess & Niple for the Montgomery County Engineer's Office and being more particularly described as follows:

Beginning for reference at a brass disk found in a highway monument box stamped “Montgomery County Engineer's Dayton”, located in the existing centerline of Right-of-Way of Austin Pike at the southeast corner of the Villages of Miami-South, Section Seven, as shown in Plat Book 192, Page 33. Said disk being located 15.31 left of Austin Boulevard Centerline of Construction Station 225+55.84;

Thence the following five (5) courses and distances along said existing centerline of Right-of-Way of Austin Pike:

1. S 83°01′58″ W, a distance of 670.76 feet, and along the south line of said Villages of Miami-South, Section Seven, to an angle point being located 15.93 feet left of Austin Boulevard Centerline of Construction Station 218+85.08;

2. S 83°46′58″ W, a distance of 160.64 feet, and along said south line of the Villages of Miami-South, Section Seven, to an angle point at the common corner of said Villages of Miami-South, Section Seven, and the 68.065 acre tract of land conveyed to the Board of Trustees Miami Township, Montgomery County, Ohio, by deed of record in Deed M.F. 95-248D05. Said point being located 18.18 feet left of Austin Boulevard Centerline of Construction Station 217+24.46;

3. S 83°46′26″ W, a distance of 373.41 feet, and along the south line of said 68.065 acre tract, to an angle point being located 21.45 feet left of Austin Boulevard Centerline of Construction Station 213+50.09;

4. S 83°49′00″ W, a distance of 722.77 feet, and along said south line of the 68.065 acre tract, to a point at the common corner of said 68.065 acre tract and the 23.744 acre tract of land conveyed to The City of Dayton, Ohio by deed of record in Deed M.F. 83-011B03. Said point being located 76.02 feet right of Austin Boulevard Centerline of Construction Station 206+30.88;

5. Continue S 83°49′00″ W, a distance of 22.67 feet, and along the south line of said 23.744 acre tract, to a point at the northeast corner of the aforesaid Grantor's 57.720 acre tract. Said point being the point of true beginning and located 78.95 feet right of Austin Boulevard Centerline of Construction Station 206+08.10;

Thence S 05°07′29″ W, a distance of 24.88 feet along the east line of said Grantor's 57.720 acre tract, to an iron pin set in the existing southerly Right-of-Way line of Austin Pike. Said iron pin being located 103.76 feet right of Austin Boulevard Centerline of Construction Station 206+06.33;

Thence S 89°17′39″ W, a distance of 670.50 feet along said existing southerly Right-of-Way line of Austin Pike, to an iron pin set. Said iron pin being located 84.93 feet right of Austin Boulevard Centerline of Construction Station 199+24.46;

Thence S 85°14′06″ W, a distance of 159.75 feet, along the proposed south right-of-way across said Grantor's 57.720 acre tract, to an iron pin set in the easterly line of Parcel 126-WDV, as delineated on ODOT Project MOT-75-0.75, Phase Three, PID 77246, Right-of-Way plans. Said iron pin being located 80.00 feet right of Austin Boulevard Centerline of Construction Station 197+62.45;

Thence the following two (2) courses and distances along the easterly lines of said Parcel 126-WDV:

1. N 55°11′45″ E, a distance of 21.23 feet, to an angle point. Said point being located 70.18 feet right of Austin Boulevard Centerline of Construction Station 197+81.53;

2. N 00°43′10″ W, a distance of 24.12 feet, to a point in the aforesaid existing centerline of Right-of-Way of Austin Pike and north line of Grantor's 57.720 acre tract. Said point being located 46.21 feet right of Austin Boulevard Centerline of Construction Station 197+84.25;

Thence the following two (2) courses and distances along said existing centerline of Right-of-Way of Austin Pike and north line of Grantor's 57.720 acre tract:

1. N 89°16′51″ E, a distance of 141.77 feet, to a railroad spike found. Said spike being located 60.27 feet right of Austin Boulevard Centerline of Construction Station 199+26.65;

2. N 89°17′39″ E, a distance of 673.03 feet, to the point of true beginning.

The above described area contains a total of 0.481 acres within the Montgomery County Auditor's Parcel Number K45 02602 0015, of which 0.461 acres are in the present road occupied.

Parcel 6-SH3

Situated in the Township of Miami, County of Montgomery, State of Ohio and being a part of the 23.744 acre tract of land as conveyed to The City of Dayton, Ohio and described in Deed M.F. 83-011B03, and lying in Section 10, Township 2, Range 5, M.Rs., and being a parcel of land lying on the Left and Right sides of the Centerline of Construction, Austin Boulevard, as shown on Plat Book 212, Pages 34 and 34A as surveyed by Burgess & Niple for the Montgomery County Engineer's Office and being more particularly described as follows:

Beginning for reference at a brass disk found in a highway monument box stamped “Montgomery County Engineer's Dayton”, located in the existing centerline of Right-of-Way of Austin Pike at the southeast corner of the Villages of Miami-South Section Seven as shown in Plat Book 192, Page 33. Said disk being located 15.31 left of Austin Boulevard Centerline of Construction Station 225+55.84;

Thence the following four (4) courses and distances along said existing centerline of Right-of-Way of Austin Pike:

1. S 83°01′58″ W, a distance of 670.76 feet, and along the south line of said Villages of Miami-South, Section Seven, to an angle point being located 15.93 feet left of Austin Boulevard Centerline of Construction Station 218+85.08;

2. S 83°46′58″ W, a distance of 160.64 feet, and along said south line of the Villages of Miami-South, Section Seven, to an angle point at the common corner of said Villages of Miami-South, Section Seven, and the 68.065 acre tract of land conveyed to the Board Of Trustees Miami Township, Montgomery County, Ohio, by deed of record in Deed M.F. 95-248D05. Said point being located 18.18 feet left of Austin Boulevard Centerline of Construction Station 217+24.46;

3. S 83°46′26″ W, a distance of 373.41 feet, and along the south line of said 68.065 acre tract, to an angle point being located 21.45 feet left of Austin Boulevard Centerline of Construction Station 213+50.09;

4. S 83°49′00″ W, a distance of 722.77 feet, and along said south line of the 68.065 acre tract, to a point at the common corner of said 68.065 acre tract and aforesaid Grantor's 23.744 acre tract. Said point being the point of true beginning and located 76.02 feet right of Austin Boulevard Centerline of Construction Station 206+30.88;

Thence continue S 83°49′00″ W, a distance of 22.67 feet, and along the south line of said Grantor's 23.744 acre tract, to a point at the northeast corner of the 57.720 acre tract conveyed to THE CITY OF DAYTON, OHIO, and described in Deed M.F. 74-023D06. Said point being located 78.95 feet right of Austin Boulevard Centerline of Construction Station 206+08.10;

Thence S 89°17′39″ W, a distance of 673.03 feet, and along the south line of said Grantor's 23.744 acre tract and north line of said 57.720 acre tract to a railroad spike found at the common corner of said Grantor's 23.744 acre tract and the aforesaid 68.065 (Total) acre tract conveyed to Board Of Trustees of Miami Township, Montgomery County, Ohio, said spike being located 60.27 feet right of Austin Boulevard Centerline of Construction Station 199+26.65;

Thence N 14°46′48″ E, a distance of 160.12 feet, along the line common to said Grantor's 23.744 acre tract and said 68.065 (Total) acre tract, to an iron pin set in the proposed north Right-of-Way. Said iron pin being located 90.00 feet left of Austin Boulevard Centerline of Construction Station 199+81.81;

Thence the following three (3) courses and distances along the proposed north Right-of-way across said Grantor's 23.744 acre tract:

1. Easterly along arc of said curve to the right (and non tangent to the previous course), having a radius of 5819.58 feet, a central angle of 04°10′55″, and a chord bearing N 86°56′32″ E, a chord distance of 424.67 feet, for an arc distance of 424.76 feet, to an iron pin set. Said iron pin being located 90.00 feet left of Austin Boulevard Centerline of Construction Station 204+00.00;

2. S 82°03′20″ E (and non tangent to the previous course), a distance of 102.54 feet, to an iron pin set. Said iron pin being located 75.00 feet left of Austin Boulevard Centerline of construction Station 205+00.00;

3. Easterly along arc of said curve to the right (and non tangent to the previous course), having a radius of 5804.58 feet, a central angle of 02°10′52″, and a chord bearing S 88°52′34″ E, a chord distance of 220.96 feet, for an arc distance of 220.97 feet, to an iron pin set in the line common to said Grantor's 23.744 acre tract and the aforesaid 68.065 (Total) acre tract. Said iron pin being located 75.00 feet left of Austin Boulevard Centerline of Construction Station 207+18.12;

Thence S 31°47′17″ W, a distance of 174.40 feet, along the line common to said Grantor's 23.744 acre tract and aforesaid 68.065 (Total) acre tract, to the point of true beginning.

The above described area contains a total of 2.685 acres, within the Montgomery County Auditor's Parcel Number K45 02602 0058, which includes 0.398 acres in the present road occupied.

Parcel 6-SH4

Situated in the Township of Miami, County of Montgomery, State of Ohio and being a part of the 16.700 acre tract of land as conveyed to The City of Dayton, Ohio and described in Deed M.F. 74-023D06 and lying in Section 10, Township 2, Range 5, M.Rs., and being a parcel of land lying on the Left and Right sides of the Centerline of Construction, Austin Boulevard, as shown on Plat Book 212, Pages 34 and 34A as surveyed by Burgess & Niple for the Montgomery County Engineer's Office and being more particularly described as follows:

Beginning for reference at a brass disk found in a highway monument box stamped “Montgomery County Engineer's Dayton”, located in the existing centerline of Right-of-Way of Austin Pike at the southeast corner of the Villages of Miami-South, Section Seven, as shown in Plat Book 192, Page 33. Said disk being located 15.31 left of Austin Boulevard Centerline of Construction Station 225+55.84;

Thence the following three (3) courses and distances along said existing centerline of Right-of-way of Austin Pike:

1. S 83°01′58″ W, a distance of 670.76 feet, and along the south line of said Villages of Miami-South, Section Seven, to an angle point being located 15.93 feet left of Austin Boulevard Centerline of Construction Station 218+85.08;

2. S 83°46′58″ W, a distance of 160.64 feet, and along said south line of the Villages of Miami-South, Section Seven, to an angle point at the common corner of said Villages of Miami-South, Section Seven, and the 68.065 acre tract of land conveyed to the Board Of Trustees Miami Township, Montgomery County, Ohio, by deed of record in Deed M.F. 95-248D05. Said point being located 18.18 feet left of Austin Boulevard Centerline of Construction Station 217+24.46;

3. S 83°46′26″ W, a distance of 373.41 feet, and along the south line of said 68.065 acre tract, to an angle point at the common corner of the 54.423 acre tract conveyed to The City of Dayton, Ohio and described in Deed M.F. 86-547C10 and the aforesaid Grantor's 16.700 acre tract. Said point being the TRUE POINT OF BEGINNING and located 21.45 feet left of Austin Boulevard Centerline of Construction Station 213+50.09;

Thence S 05°08′40″ W, a distance of 103.51 feet, along the line common to said 54.423 acre tract and Grantor's 16.700 acre tract, to an iron pin set. Said iron pin being located 80.69 feet right of Austin Boulevard Centerline of Construction Station 213+33.55;

Thence the following two (2) courses and distances along the proposed south Right-of-Way across said Grantor's 16.700 acre tract:

1. S 82°58′46″ W, a distance of 71.69 feet, to an iron pin set. Said iron pin being located 85.82 feet right of Austin Boulevard Centerline of Construction Station 212+65.03;

2. N 89°24′50″ W, a distance of 662.93 feet, to an iron pin set in the line common to said Grantor's 16.700 acre tract and the 57.720 acre tract conveyed to The City of Dayton, Ohio, and described in Deed M.F. 74-023D06. Said iron pin being located 103.76 feet right of Austin Boulevard Centerline of Construction Station 206+06.33;

Thence N 05°07′29″ E, a distance of 24.88 feet, along the line common to said Grantor's 16.700 acre tract and said 57.720 acre tract, to a point in the aforesaid centerline of Austin Pike. Said point being located 78.95 feet right of Austin Boulevard Centerline of Construction Station 206+08.10;

Thence N 83°49′00″ E, a distance of 745.44 feet, along said centerline of Austin Pike and north line of Grantor's 16.700 acre tract, to the TRUE POINT OF BEGINNING.

The above described area contains a total of 1.149 acres, within the Montgomery County Auditor's Parcel Number K45 02602 0023, which includes 0.424 acres in the present road occupied.

Parcel 6-SH5

Situated in the Township of Miami, County of Montgomery, State of Ohio and being a part of the 54.423 acre tract of land as conveyed to The City of Dayton, Ohio and described in Deed M.F. 86-547C10 and lying in Section 10, Township 2, Range 5, M.Rs., and being a parcel of land lying on the Left and Right sides of the Centerline of Construction, Austin Boulevard, as shown on Plat Book 212, Pages 34 and 34A as surveyed by Burgess & Niple for the Montgomery County Engineer's Office and being more particularly described as follows:

BEGINNING at a brass disk found in a highway monument box stamped “Montgomery County Engineer's Dayton”, located in the existing centerline of Right-of-Way of Austin Pike and north line of said Grantor's 54.423 acre tract, at the southeast corner of the Villages of Miami-South, Section Seven, as shown in Plat Book 192, Page 33. Said disk being located 15.31 left of Austin Boulevard Centerline of Construction Station 225+55.84;

Thence N 82°58′02″ E, a distance of 697.56 feet, along said existing centerline of Right-of-Way of Austin Pike and north line of Grantor's 54.423 acre tract, to a PK Nail set at the common corner of said Grantor's 54.423 acre tract and the 118.930 acre tract conveyed to The City of Dayton, Ohio and described in Deed M.F. 86-547C12. Said PK Nail being located 64.72 feet left of Austin Boulevard Centerline of Construction Station 232+44.54;

Thence S 05°35′05″ W, a distance of 201.00 feet, along the line common to said Grantor's 54.423 acre tract and said 118.930 acre tract to an iron pin set, said point being located 136.13 feet right of Austin Boulevard Centerline of Construction Station 232+36.87;

Thence the following six (6) courses and distances along the proposed south Right-of-way across said Grantor's 54.423 acre tract:

1. N 80°26′56″ W, a distance of 11.54 feet, to an iron pin set. Said iron pin being located 134.86 feet right of Austin Boulevard Centerline of Construction Station 232+24.83;

2. N 31°28′27″ W a distance of 42.22 feet, to an iron pin set. Said iron pin being located 100.00 feet right of Austin Boulevard Centerline of Construction Station 232+00.00;

3. N 74°27′32″ W, a distance of 50.56 feet, to an iron pin set. Said iron pin being located 88.25 feet right of Austin Boulevard Centerline of Construction Station 231+49.15;

4. N 85°46′45″ W, a distance of 145.19 feet, to an iron pin set, said iron pin being located 77.82 feet right of Austin Boulevard Centerline of Construction Station 230+00.00;

5. Westerly along arc of said curve to the left having a radius of 2786.97 feet, a central angle of 05°37′56″, and a chord bearing S 85°47′44″ W, a chord distance of 273.85 feet, for an arc distance of 273.96 feet, to an iron pin set at the point of tangency. Said iron pin being located 77.82 feet right of Austin Boulevard Centerline of Construction Station 227+18.39;

6. S 82°58′46″ W, a distance of 1389.12 feet, to an iron pin set in the line common to said Grantor's 54.423 acre tract and the 16.700 acre tract conveyed to The City of Dayton, Ohio and described in Deed M.F. 74-023D06. Said iron pin being located 80.69 feet right of Austin Boulevard Centerline of Construction Station 213+33.55;

Thence N 05°08′40″ E, a distance of 103.51 feet, along the line common to said Grantor's 54.423 acre tract and said 16.700 acre tract, to a point in the aforesaid existing centerline of Right-of-way of Austin Pike at the common corner of said Grantor's 54.423 acre tract and said 16.700 acre tract. Said point being located 21.45 feet left of Austin Boulevard Centerline of Construction Station 213+50.09;

Thence the following three (3) courses and distances along said existing centerline of Right-of Way of Austin Pike and north line of said Grantor's 54.423 acre tract:

1. N 83°46′26″ E, a distance of 373.41 feet, to a point at the southwest corner of aforesaid Villages of Miami South, Section Seven. Said point being located 18.18 feet left of Austin Boulevard Centerline of Construction Station 217+24.46;

2. N 83°46′58″ E, a distance of 160.64 feet, and along the south line of said Villages of Miami-South, Section Seven, to a point. Said point being located 15.93 feet left of Austin Boulevard Centerline of Construction Station 218+85.08;

3. N 83°01′58″ E, a distance of 670.76 feet, and along the south line of said Villages of Miami-South, Section Seven, to the POINT OF BEGINNING.

The above described area contains a total of 4.388 acres, within the Montgomery County Auditor's Parcel Number K45 02602 0059, which includes 1.357 acres in the present road occupied.

Parcel 6-SH6

Situated in the Township of Miami, County of Montgomery, State of Ohio and being a part of a 118.930 acre tract of land as conveyed to The City of Dayton, Ohio and described in Deed M.F. 86-547C12 and lying in Section 10, Township 2, Range 5, M.Rs., and being a parcel of land lying on the Left and Right sides of the centerline of right of way and construction Austin Boulevard, as shown on Plat Book 212, Pages 34 and 34A as surveyed by Burgess & Niple for the Montgomery County Engineer's Office and being more particularly described as follows:

Beginning at a brass disk found in a highway monument box stamped “Montgomery County Engineer's Dayton”, located at the intersection of the existing centerline of Right-of-Way of Austin Pike, and the line common to Miami Township Section 10, Township 2, Range 5, and Washington Township Section 4, Township 2, Range 5 of the M.Rs. Said disk being the northeast corner of said Grantor's 118.930 acre tract and located 85.17 feet left of Austin Boulevard Centerline of Construction Station 233+42.34;

Thence S 05°35′01″ W, a distance of 230.30 feet, along said line common to Miami Township and Washington Township, and east line of Grantor's 118.930 acre tract, to an iron pin set. Said iron pin being located 145.13 feet right of Austin Boulevard Centerline of Construction Station 233+41.81;

Thence N 80°26′56″ W, a distance of 100.19 feet along the proposed south Right-of-Way across said Grantor's 118.930 acre tract, to an iron pin set in the line common to said Grantor's 118.930 acre tract, and the 54.423 acre tract conveyed to The City of Dayton, Ohio and described in Deed M.F. 86-547C10. Said point being located 136.13 feet right of Austin Boulevard Centerline of Construction Station 232+36.87;

Thence N 05°35′05″ E, a distance of 201.00 feet, along said line common to said Grantor's 118.930 acre tract and said 54.423 acre tract, to a PK Nail Set in the aforesaid existing centerline of Right-of-way of Austin Pike, at the northwesterly corner of said Grantor's 118.930 acre tract. Said PK nail being located 64.72 feet left of Austin Boulevard Centerline of Construction Station 232+44.54;

Thence N 82°58′02″ E a distance of 102.42 feet along said existing centerline of Right-of-way of Austin Pike and northerly line of said Grantor's 118.930 acre tract, to the true point of beginning.

The above described area contains a total of 0.495 acres, within the Montgomery County Auditor's Parcel Number K45 02602 0011, which includes 0.140 acres in the present road occupied.

Parcel 6-SH7

Situated in the State of Ohio, County of Montgomery, Township of Miami, Section 10, Township 2, Range 5, M.Rs., and being a part of a 57.720 acre tract of land as conveyed to The City of Dayton, Ohio, and described in Deed M.F. 74-023D06 and being more particularly described as follows:

Being a parcel lying on the right side of the Centerline of Construction of Austin Boulevard as shown on Plat Book 212, Pages 34 and 34A of the Plat records of Montgomery County and being located within the following described points in the boundary thereof:

Commencing at a brass disk found within a highway monument box stamped “Montgomery County Engineer's Dayton” located on the existing centerline of Right-of-Way of Austin Pike at the southeast corner of the Villages of Miami-South, Section Seven, as shown on Plat Book 192, Page 33 of the Plat records of Montgomery County, said brass disk found being 15.31 feet left of Austin Boulevard Centerline of Construction station 225+55.84;

Thence on the existing centerline of right of way of Austin Pike, South 83 degrees 01 minutes 58 seconds West, 670.76 feet to an angle point, said angle point being 15.93 feet left of Austin Boulevard Centerline of Construction station 218+85.08;

Thence continuing on the existing centerline of right of way of Austin Pike, South 83 degrees 46 minutes 58 seconds West, 160.64 feet to an angle point, said angle point being 18.18 feet left of Austin Boulevard Centerline of Construction station 217+24.46;

Thence continuing on the existing centerline of right of way of Austin Pike, South 83 degrees 46 minutes 26 seconds West, 373.41 feet to an angle point, said angle point being 21.45 feet left of Austin Boulevard Centerline of Construction station 213+50.09;

Thence continuing on the existing centerline of right of way of Austin Pike, South 83 degrees 49 minutes 00 seconds West, 745.44 feet to an angle point, said angle point being 78.95 feet right of Austin Boulevard Centerline of Construction station 206+08.10. Said angle point also being the northeast corner of the aforesaid grantor's 57.720 acre tract;

Thence South 05 degrees 07 minutes 29 seconds West, 34.93 feet on the grantor's east line to an iron pin set on the south line of an existing 10 foot DP&L easement as recorded in Deed MF 98-0489B07 & Deed MF 00-0735B01, said iron pin being 113.79 feet right of Austin Boulevard Centerline of Construction station 206+05.61 and also being the true point of beginning for the parcel of land herein described;

Thence South 05 degrees 07 minutes 29 seconds West, 20.10 feet continuing on the grantor's east line to an iron pin set on the proposed standard highway easement line, said iron pin being 133.84 feet right of Austin Boulevard Centerline of Construction station 206+04.16;

Thence South 89 degrees 17 minutes 39 seconds West, 666.38 feet on the proposed standard highway easement line to an iron pin set, said iron pin being 114.91 feet right of Austin Boulevard Centerline of Construction station 199+22.87;

Thence South 85 degrees 14 minutes 06 seconds West, 150.64 feet continuing on the proposed standard highway easement line to an iron pin set, said iron pin being 110.33 feet right of Austin Boulevard Centerline of Construction station 197+69.28;

Thence South 55 degrees 11 minutes 45 seconds West, 51.14 feet continuing on the proposed standard highway easement line to an iron pin set, said iron pin being 133.78 feet right of Austin Boulevard Centerline of Construction station 197+22.85;

Thence South 84 degrees 57 minutes 40 seconds West, 280.33 feet continuing on the proposed standard highway easement line to an iron pin set, said iron pin being 113.59 feet right of Austin Boulevard Centerline of Construction station 194+37.08;

Thence South 80 degrees 59 minutes 47 seconds West, 412.84 feet continuing on the proposed standard highway easement line to an iron pin set, said iron pin being 125.87 feet right of Austin Boulevard Centerline of Construction station 190+42.38;

Thence North 88 degrees 30 minutes 19 seconds West, 497.87 feet continuing on the proposed standard highway easement line to an iron pin set, said iron pin being 122.42 feet right of Austin Boulevard Centerline of Construction station 185+51.78;

Thence South 84 degrees 42 minutes 42 seconds West, 198.53 feet continuing on the proposed standard highway easement line to an iron pin set, said iron pin being 145.87 feet right of Austin Boulevard Centerline of Construction station 183+54.64;

Thence North 01 degrees 29 minutes 41 seconds East, 20.14 feet continuing on the proposed standard highway easement line to an iron pin set on the relocated 10 foot easement as recorded in Deed MF 98-0489B07 & Deed MF 00-0735B01, said iron pin being 125.73 feet right of Austin Boulevard Centerline of Construction station 183+54.64;

Thence North 84 degrees 42 minutes 42 seconds East, 197.34 feet on said relocated 10 foot easement to an iron pin set, said iron pin being 102.42 feet right of Austin Boulevard Centerline of Construction station 185+50.59;

Thence South 88 degrees 30 minutes 19 seconds East, 497.21 feet continuing on said relocated 10 foot easement to an iron pin set, said iron pin being 105.80 feet right of Austin Boulevard Centerline of Construction station 190+41.75;

Thence North 80 degrees 59 minutes 47 seconds East, 411.70 feet continuing on said relocated 10 foot easement to an iron pin set, said iron pin being 93.62 feet right of Austin Boulevard Centerline of Construction station 194+38.32;

Thence North 84 degrees 57 minutes 40 seconds East, 275.71 feet continuing on said relocated 10 foot easement to an iron pin set, said iron pin being 113.55 feet right of Austin Boulevard Centerline of Construction station 197+18.39;

Thence North 55 degrees 11 minutes 45 seconds East, 51.19 feet continuing on said relocated 10 foot easement to an iron pin set, said iron pin being 90.11 feet right of Austin Boulevard Centerline of Construction station 197+64.72;

Thence North 85 degrees 14 minutes 06 seconds East, 156.71 feet continuing on said relocated 10 foot easement to an iron pin set on the south line of an existing 10 foot DP&L easement as recorded in Deed MF 98-0489307 & Deed MF 00-0735301, said iron pin being 94.92 feet right of Austin Boulevard Centerline of Construction station 199+23.93;

Thence North 89 degrees 17 minutes 39 seconds East, 669.13 feet on the south line of said existing 10 foot DP&L easement to the true point of beginning and containing 1.037 acres, of which 0.000 acres is PRO (Present Road Occupied), leaving a net take of 1.037 acres, more or less, subject to legal highways and other easements of record.

Parcel 6-SH8

Situated in the State of Ohio, County of Montgomery, Township of Miami, Section 10, Township 2, Range 5, M.Rs., and being a part of a 16.700 acre tract of land as conveyed to The City of Dayton, Ohio, and described in Deed M.F. 74-023D06 and being more particularly described as follows:

Being a parcel lying on the right side of the Centerline of Construction of Austin Boulevard as shown on Plat Book 212, Pages 34 and 34A of the Plat records of Montgomery County and being located within the following described points in the boundary thereof:

Commencing at a brass disk found within a highway monument box stamped “Montgomery County Engineer's Dayton” located on the existing centerline of Right-of-Way of Austin Pike at the southeast corner of the Villages of Miami-South, Section Seven, as shown on Plat Book 192, Page 33 of the Plat records of Montgomery County, said brass disk found being 15.31 feet left of Austin Boulevard Centerline of Construction station 225+55.84;

Thence on the existing centerline of right of way of Austin Pike, South 83 degrees 01 minutes 58 seconds West, 670.76 feet to an angle point, said angle point being 15.93 feet left of Austin Boulevard Centerline of Construction station 218+85.08;

Thence continuing on the existing centerline of right of way of Austin Pike, South 83 degrees 46 minutes 58 seconds West, 160.64 feet to an angle point, said angle point being 18.18 feet left of Austin Boulevard Centerline of Construction station 217+24.46;

Thence continuing on the existing centerline of right of way of Austin Pike, South 83 degrees 46 minutes 26 seconds West, 373.41 feet to an angle point, said angle point being 21.45 feet left of Austin Boulevard Centerline of Construction station 213+50.09;

Thence South 05 degrees 08 minutes 40 seconds West, 113.74 feet on the grantor's east line to an iron pin set on the relocated 10 foot easement as recorded in Deed MF 98-0489B07 & Deed MF 00-0735B01, said iron pin being 90.79 feet right of Austin Boulevard Centerline of Construction station 213+32.01 and also being the true point of beginning for the parcel of land herein described;

Thence South 05 degrees 08 minutes 40 seconds West, 20.46 feet continuing on the grantor's east line to an iron pin set on the proposed standard highway easement line, said iron pin being 111.00 feet right of Austin Boulevard Centerline of Construction station 213+28.97;

Thence South 82 degrees 58 minutes 46 seconds West, 67.21 feet on the proposed standard highway easement line to an iron pin set, said iron pin being 115.88 feet right of Austin Boulevard Centerline of Construction station 212+65.69;

Thence North 89 degrees 24 minutes 50 seconds West, 664.58 feet continuing on the proposed standard highway easement line to an iron pin set, said iron pin being 133.76 feet right of Austin Boulevard Centerline of Construction station 206+06.95;

Thence South 89 degrees 17 minutes 39 seconds West, 2.73 feet continuing on the proposed standard highway easement line to an iron pin set on the grantor's west line, said iron pin being 133.84 feet right of Austin Boulevard Centerline of Construction station 206+04.16;

Thence North 05 degrees 07 minutes 29 seconds East, 20.10 feet on the grantor's west line to an iron pin set on the south line of an existing 10 foot DP&L easement as recorded in Deed MF 98-0489B07 & Deed MF 00-0735B01, said iron pin being 113.79 feet right of Austin Boulevard Centerline of Construction station 206+05.61;

Thence North 89 degrees 17 minutes 39 seconds East, 0.91 feet on the south line of said existing 10 foot DP&L easement to an iron pin set on the relocated 10 foot easement as recorded in Deed MF 98-0489B07 & Deed MF 00-0735B01, said iron pin being 113.76 feet right of Austin Boulevard Centerline of Construction station 206+06.53;

Thence South 89 degrees 24 minutes 50 seconds East, 663.48 feet on said relocated 10 foot easement to an iron pin set, said iron pin being 95.84 feet right of Austin Boulevard Centerline of Construction station 212+65.25;

Thence North 82 degrees 58 minutes 46 seconds East, 70.20 feet on said relocated 10 foot easement to the true point of beginning and containing 0.337 acres, of which 0.000 acres is PRO (Present Road Occupied), leaving a net take of 0.337 acres, more or less, subject to legal highways and other easements of record.

Parcel 6-SH9

Situated in the State of Ohio, County of Montgomery, Township of Miami, Section 10, Township 2, Range 5, M.Rs., and being a part of a 54.423 acre tract of land as conveyed to The City of Dayton, Ohio, and described in Deed M.F. 86-547C10 and being more particularly described as follows:

Being a parcel lying on the right side of the Centerline of Construction of Austin Boulevard as shown on Plat Book 212, Pages 34 and 34A of the Plat records of Montgomery County and being located within the following described points in the boundary thereof:

Commencing at a brass disk found within a highway monument box stamped “Montgomery County Engineer's Dayton” located on the existing centerline of Right-of-Way of Austin Pike at the southeast corner of the Villages of Miami-South, Section Seven, as shown on Plat Book 192, Page 33 of the Plat records of Montgomery County, said brass disk found being 15.31 feet left of Austin Boulevard Centerline of Construction station 225+55.84;

Thence on the existing centerline of right of way of Austin Pike, South 83 degrees 01 minutes 58 seconds West, 670.76 feet to an angle point, said angle point being 15.93 feet left of Austin Boulevard Centerline of Construction station 218+85.08;

Thence continuing on the existing centerline of right of way of Austin Pike, South 83 degrees 46 minutes 58 seconds West, 160.64 feet to an angle point, said angle point being 18.18 feet left of Austin Boulevard Centerline of Construction station 217+24.46;

Thence South 06 degrees 58 minutes 02 seconds East, 96.00 feet on a line to an iron pin set on the proposed right of way line of Parcel 6-SH5 to be acquired by ODOT Project MOTCR 166-6.00, PID 78696, as shown on the Right-of-Way plans thereof, said iron pin being 77.82 feet right of Austin Boulevard Centerline of Construction station 217+24.37 and also being the true point of beginning for the parcel of land herein described;

Thence South 06 degrees 58 minutes 02 seconds East, 30.00 feet on the proposed standard highway easement line to an iron pin set, said iron pin being 107.82 feet right of Austin Boulevard Centerline of Construction station 217+24.34;

Thence South 82 degrees 58 minutes 46 seconds West, 401.54 feet on the proposed standard highway easement line to an iron pin set on the grantor's west line, said iron pin being 111.00 feet right of Austin Boulevard Centerline of Construction station 213+28.97;

Thence North 05 degrees 08 minutes 40 seconds East, 20.46 feet on the grantor's west line to an iron pin set on the relocated 10 foot easement as recorded in Deed MF 98-0489B07 & Deed MF 00-0735B01, said iron pin being 90.79 feet right of Austin Boulevard Centerline of Construction station 213+32.01;

Thence North 82 degrees 58 minutes 46 seconds East, 377.24 feet on said relocated 10 foot easement to an iron pin set on the proposed standard highway easement line, said iron pin being 87.82 feet right of Austin Boulevard Centerline of Construction station 217+04.36;

Thence North 06 degrees 58 minutes 02 seconds West, 10.00 feet on the proposed standard highway easement line to an iron pin set on said Parcel 6-SH5, said iron pin being 77.82 feet right of Austin Boulevard Centerline of Construction station 217+04.37;

Thence North 82. degrees 58 minutes 46 seconds East, 20.00 feet on the proposed right of way line of said Parcel 6-SH5 to the true point of beginning and containing 0.188 acres, of which 0.000 acres is PRO (Present Road Occupied), leaving a net take of 0.188 acres, more or less, subject to legal highways and other easements of record.

Issued in Romulus, Michigan, on March 5, 2010.
Original signed by:
Joe Hebert,
Acting Manager, Detroit Airports District Office, FAA, Great Lakes Region.

[FR Doc. 2010-7079 Filed 4-1-10; 8:45 am]

BILLING CODE 4910-13-M